DEPARTMENT OF TRANSPORTATION

Federal Highway Administration

Notice of Final Federal Agency Actions on the Interstate-11 (I-11), Nogales to Wickenburg, in Santa Cruz, Pima, Pinal, Maricopa and Yavapai Counties, AZ

AGENCY: Federal Highway Administration (FHWA), Department of Transportation (DOT).

ACTION: Notice of limitation on claims for Judicial Review of Actions by FHWA and other federal agencies.

SUMMARY: This notice announces actions taken by FHWA that are final. The actions relate to the Tier 1 Environmental Impact Statement (EIS) and Record of Decision (ROD) for the Interstate-11 (I-11), Nogales to Wickenburg, in Santa Cruz, Pima, Pinal, Maricopa and Yavapai Counties, AZ. The actions grant licenses, permits, and approvals for the project.

DATES: By this notice, FHWA is advising the public of final agency actions subject to 23 U.S.C. 139(l)(1). A claim seeking judicial review of the Federal agency actions with authority on the highway project will be barred unless the claim is filed on or before April 21, 2022. If the Federal law that authorizes judicial review of a claim provides a time period of less than 150 days for filing such claim, then that shorter time period still applies.

FOR FURTHER INFORMATION CONTACT: Mr. Aryan Lirange, Senior Urban Engineer, Federal Highway Administration, 4000 N Central Avenue, Suite 1500, Phoenix, Arizona 85012; telephone: (602) 382-8973 email: Aryan.lirange@dot.gov. The FHWA Arizona Division normal business hours are 7:30 a.m. to 4 p.m. (Mountain Standard Time).

You may also contact: Ms. Rebecca Yedlin, Environmental Coordinator, Federal Highway Administration, 4000 N Central Avenue, Suite 1500, Phoenix, Arizona 85012; telephone: (602) 382-8979, email: Rebecca.yedlin@dot.gov.

SUPPLEMENTARY INFORMATION: Notice is hereby given that FHWA and other Federal agencies have taken final agency actions by issuing licenses, permits, and approvals for the following project in the State of Arizona: I-11, Nogales to Wickenburg. The actions by FHWA and other relevant Federal agencies and the laws under which such actions were taken, are described in the Tier 1 Draft EIS approved on March 19, 2019, Tier 1 Final Tier 1 EIS approved on June, 24, 2021, in the ROD issued on November 15, 2021, and in other documents in the project file. Project decision documents are available online at: http://www.i11study.com/Arizona/. This notice applies to all Federal agency decisions as of the issuance date of this notice and all laws under which such actions were taken, including but not limited to: National Environmental Policy Act (NEPA) [42 U.S.C. 4321 et seq.]; Federal-Aid Highway Act [23 U.S.C. 101 et seq.]; Clean Air Act [42 U.S.C. 7401 et seq.]; Section 4(f) of the US Department of Transportation Act of 1966 [49 U.S.C. 303, 23 U.S.C. 138]; Endangered Species Act [16 U.S.C. 1531-1544, 1536]; Migratory Bird Treaty Act [16 U.S.C. 703-712]; The National Historic Preservation Act of 1966, [54 U.S.C. 300101 et seq.]; Archeological Resources Protection Act [16 U.S.C. 16 U.S.C. 470aa-mm]; Archeological and Historic Preservation Act [16 U.S.C. 469]; Native American Grave Protection and Repatriation Act (NAGPRA) [25 U.S.C. 3001-3013]; Title VI of Civil Rights Act [42 U.S.C. 2000d et seq.]; American Indian Religious Freedom Act [42 U.S.C. 1996]; Farmland Protection Policy Act (FPPA) [7 U.S.C. 4201 et seq.]; Clean Water Act [33 U.S.C. 1251 et seq.]; E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction.)

Authority: 23 U.S.C. 139(l)(1).

Issued on: November 16, 2021.
Karla S. Petty,
Arizona Division Administrator, Phoenix, Arizona.

[FR Doc. 2021-25363 Filed 11-19-21; 8:45 am]

BILLING CODE P